DEPARTMENT OF AGRICULTURE

Natural Resources Conservation Service

Dunloup Creek Watershed, Fayette and Raleigh Counties, WV

AGENCY: Natural Resources Conservation Service.

ACTION: Notice of intent to prepare an environmental impact statement.

SUMMARY: Pursuant to Section 102(2)(C) of the National Environmental Policy Act of 1969; the Council on Environmental Quality Guidelines (40 CFR part 1500); and the Natural Resources Conservation Service Guidelines (7 CFR part 650); the Natural Resources Conservation Service (NRCS), U.S. Department of Agriculture, is giving notice that an environmental impact statement (EIS) will be prepared for the Dunloup Creek Watershed of the New River Watershed, Fayette and Raleigh Counties, West Virginia. The EIS will evaluate potential impacts to the natural, physical and human environment as a result of the flood damage reduction measures proposed for the 100-year floodplain in the Dunloup Creek Watershed, Fayette and Raleigh Counties, West Virginia.

FOR FURTHER INFORMATION CONTACT: Ronald L. Hilliard, State Conservationist, Natural Resources Conservation Service, 75 High Street, Room 301, Morgantown, West Virginia 26505, telephone (304) 284-7545.

SUPPLEMENTARY INFORMATION: Floodwater damage and critical area erosion in the Dunloup Creek watershed were the initial impetus for a study in 1965 when local sponsors applied for Federal assistance under Public Law 566—The Watershed Protection and Flood Prevention Act. Several years of study resulted in the preparation of a Watershed Plan—EIS in 1976. Further project activities were terminated in 1984 by mutual agreement between the former Soil Conservation Service (now NRCS) and the local project sponsors due to utility and land-rights issues.

In 1996, due to recurring flooding in the watershed, a new application was submitted by the local sponsors and NRCS re-initiated planning assistance. The planning effort resulted in the preparation of a Local Implementation Plan in December 1998. The Plan provided alternatives for local implementation without PL-566 cost-sharing and without full analysis of the hydraulic, environmental, economic and cultural concerns associated with alternatives. No further action was taken by the local sponsors with regard to implementing the 1998 Plan.

In August 2001, following flood events of July 2001, local sponsors requested additional planning assistance for the Dunloup Creek watershed under PL-566. The current work will document alternatives evaluated to reduce flooding and related damages in the Dunloup Creek watershed, including: Upstream floodwater retarding impoundments, channel modifications, diking, land treatment measures, flood proofing and a voluntary buyout program. The “no project” alternative was also considered.

The environmental assessment of this federally-assisted action suggests the estimated costs of the various alternatives will exceed $5 million. As a result, Ronald L. Hilliard, State Conservationist, has determined that the preparation and review of a draft EIS is needed for this project.

A draft EIS will be prepared and circulated for review by agencies and the public. The Natural Resources Conservation Service invites participation and consultation of agencies and individuals that have special expertise, legal jurisdiction, or interest in the preparation of the draft EIS. A scoping meeting (workshop) will be held on Wednesday September 20, 2006, at the National Guard Armory in Glen Jean, WV. The workshop will be held from 4 p.m. through 7 p.m. Those attending will have the opportunity to inquire about the project and to provide input to determine the scope of the evaluation of the proposed action. Further information on the proposed action may be obtained from Ronald L. Hilliard, State Conservationist, at the above address or telephone (304) 284-7545.

August 30, 2006.
Ronald L. Hilliard,
State Conservationist.

[FR Doc. E6-15249 Filed 9-13-06; 8:45 am]

BILLING CODE 3410-16-P